ENVIRONMENTAL PROTECTION AGENCY

40 CFR Part 51

[EPA-HQ-OAR-2023-0262; FRL-12160-01-OAR]

RIN 2060-AW41

Regional Haze Third Implementation Period; Extension of the State Implementation Plan Due Date

AGENCY: Environmental Protection Agency (EPA).

ACTION: Proposed rule.

SUMMARY: The Environmental Protection Agency (EPA) is proposing revisions to the Regional Haze Rule under the Clean Air Act (CAA) to change the due date for the next round of State Implementation Plans (SIPs) for the third implementation period. Under the Regional Haze Rule, States must submit plans to protect visibility in mandatory Class I Federal areas (Class I areas) to continue reasonable progress towards natural visibility.

DATES: Comments must be received on or before February 6, 2025.

ADDRESSES: You may send comments, identified by Docket ID No. EPA-HQ-OAR-2023-0262, by any of the following methods: via the Federal eRulemaking Portal, http://www.regulations.gov (our preferred method). Follow the online instructions for submitting comments.

Instructions: All submissions received must include the Docket ID No. for this rulemaking. Comments received may be posted without change to https://www.regulations.gov, including personal information provided. For detailed instructions on sending comments and additional information on the rulemaking process, see the “Public Participation” heading of the SUPPLEMENTARY INFORMATION section of this document.

FOR FURTHER INFORMATION CONTACT: Ms. Paige Wantlin, Air Quality Policy Division, Office of Air Quality Planning and Standards (Mailcode C539-01), Environmental Protection Agency, 109 TW Alexander Drive, Research Triangle Park, NC 27711; telephone number: (919) 541-5760; email address: Wantlin.Paige@epa.gov or Mr. Brian Timin, Air Quality Policy Division, Office of Air Quality Planning and Standards (Mailcode C539-01), Environmental Protection Agency, 109 TW Alexander Drive, Research Triangle Park, NC 27711; telephone number: (919) 541-1850; email address: Timin.Brian@epa.gov.

SUPPLEMENTARY INFORMATION:

I. Public Participation

Written Comments

Submit your comments, identified by Docket ID No. EPA-HQ-OAR-2023-0262, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full the EPA public comment policy; information about CBI, PBI, or multimedia submissions; and general guidance on making effective comments.

II. General Information

A. Preamble Glossary of Terms and Acronyms

The following are abbreviations of terms used in this document.

CAA Clean Air Act

CFR Code of Federal Regulations

EGU Electric generating unit

EPA Environmental Protection Agency

FLM(s) Federal Land Managers

NAAQS National Ambient Air Quality Standards

NOX Nitrogen oxides

OMB Office of Management and Budget

PM Particulate matter

PM2.5 Particulate matter equal to or less than 2.5 microns in diameter (fine particulate matter)

PM10 Particulate matter equal to or less than 10 microns in diameter

PRA Paperwork Reduction Act

RPG Reasonable progress goal

SIP State implementation plan

SO2 Sulfur dioxide

B. Does this action apply to me?

Entities potentially affected directly by this proposed rule include State, local and Tribal governments, as well as Federal Land Managers (FLMs) responsible for protection of visibility in mandatory Class I areas. Entities potentially affected indirectly by this proposed rule include owners and operators of sources that emit particulate matter equal to or less than 10 microns in diameter (PM10), particulate matter equal to or less than 2.5 microns in diameter (PM2.5 or fine PM), sulfur dioxide (SO2), oxides of nitrogen (NOX), volatile organic compounds and other pollutants that may cause or contribute to visibility impairment. Others potentially affected indirectly by this proposed rule include members of the general public who live, work or recreate nearby or in mandatory Class I areas affected by visibility impairment. Because emissions sources that contribute to visibility impairment in Class I areas also may contribute to air pollution in other areas, members of the general public may also be affected by this proposed rulemaking.

C. What should I consider as I prepare my comments for the EPA?

When submitting comments, remember to identify the rulemaking docket by docket number and other identifying information (such as subject heading and Federal Register date and page number). Commenters should follow directions described in the proposed rule by responding to specific questions or by organizing comments by referencing a Code of Federal Regulations (CFR) part or section number. Commenters should also explain why they agree or disagree, suggest alternatives, or substitute language for requested changes. To support comments, described any assumptions and provide any technical information and/or data that you used to support your comment. If you estimate potential costs or burdens, explain how you arrived at your estimate in sufficient detail to allow for it to be reproduced. Please provide specific examples to illustrate your concerns wherever possible, suggest alternatives, and explain your views as clearly as possible while avoiding profanity or personal threats. Finally, make sure to submit your comments by the comment period deadline.

Please note that this proposed rulemaking is narrow in scope. Please focus your comments on only those sections of the CFR affected by our proposed changes. Comments that are outside the scope of this proposed action will not be considered.

D. Where can I obtain a copy of this document and other related information?

In addition to being available in the docket, an electronic copy of this Federal Register document will be posted at http://www.epa.gov/visibility.

E. How is this Federal Register document organized?

The information presented in this document is organized as follows:

I. Public Participation

II. General Information

A. Preamble Glossary of Terms and Acronyms

B. Does this action apply to me?

C. What should I consider as I prepare my comments for the EPA?

D. Where can I obtain a copy of this document and other related information?

E. How is this Federal Register document organized?

III. What action is the EPA proposing to take?

IV. What is the background for the EPA's proposed action?

A. Regional Haze

B. Requirements for Regional Haze SIPs for the Second Implementation Period

V. Proposed Rule Changes

VI. Environmental Justice Considerations

VII. Statutory and Executive Order Reviews

A. Executive Order 12866: Regulatory Planning and Review and Executive Order 14094: Modernizing Regulatory Review

B. Paperwork Reduction Act (PRA)

C. Regulatory Flexibility Act

D. Unfunded Mandates Reform Act

E. Executive Order 13132: Federalism

F. Executive Order 13175: Consultation and Coordination With Indian Tribal Governments

G. Executive Order 13045: Protection of Children From Environmental Health & Safety Risks

H. Executive Order 13211: Actions that Significantly Affect Energy Supply, Distribution, or Use

I. National Technology Transfer and Advancement Act

J. Executive Order 12898: Federal Actions To Address Environmental Justice in Minority Populations and Low-Income Populations and Executive Order 14096: Revitalizing Our Nation's Commitment to Environmental Justice for All

VIII. Statutory Authority

III. What action is the EPA proposing to take?

The EPA is proposing to revise the due date for the next required regional haze SIP revision from the current due date of July 31, 2028, to a revised due date of July 31, 2031. The revised SIP due date would apply to periodic comprehensive State implementation plans developed for the third regional haze implementation period.¹ The proposed change to the third regional haze SIP due date has no effect on prior due dates for the second ² or prior ³ implementation periods under the existing Regional Haze Rule. The EPA is also proposing to revise 40 CFR 51.308(f) to clarify that the due date for the fourth implementation period SIPs will still be due on July 31, 2038. The end date for the third implementation period is not being revised and will remain in 2038. Therefore, State plans will remain focused on emissions reduction measures designed to achieve reasonable progress by 2038, as required by the current rule. Other than the proposed change to the next due date for periodic comprehensive SIP revisions (i.e., for those currently due in 2028) and clarifying the due date for future periodic comprehensive SIP revisions (i.e., for those that will still be due in 2038), the EPA is proposing no other changes for due dates for future periodic comprehensive SIP revisions or future progress reports.

¹ While the EPA uses “implementation period” in this notice of proposed rulemaking, we note that “planning period” may be used in other Regional Haze guidance, policy, and rules. The terms may be used interchangeably and convey the same meaning.

² SIP revisions for the second implementation period were due July 31, 2021.

³ SIPs for the first implementation period were due December 17, 2007.

The EPA is proposing a third implementation period deadline change from July 31, 2028, to July 31, 2031, for several reasons, as described more fully later in this proposed action. The EPA intends to propose revisions to the Regional Haze Rule through a notice-and-comment rulemaking. Once finalized, these revisions would impact the third implementation period SIPs. The proposed extension rule revisions also clarify that the due date for the fourth implementation period SIPs remains 2038 and does not alter the previously established SIP schedule. The current SIP revision deadline of July 31, 2028, is not expected to provide States with enough time to develop their regional haze SIP revisions to reflect any updated requirements based on the anticipated forthcoming rule revisions. In addition, extending the third implementation period SIP due date allows States to obtain and consider the potential emissions reductions resulting from implementing other near-term regulatory programs,⁴ including implementation of measures adopted as part of the regional haze second implementation period. The SIP due date extension would also allow States to develop SIP revisions for the third implementation period that are more integrated with State planning for these other programs. This was an advantage that was identified in feedback from States over prior implementation periods and that is anticipated to result in greater environmental progress than if planning for these multiple programs were not as well integrated.⁵

⁴ This includes programs such as such as the 2015 8-hour Ozone NAAQS Serious and Severe Area SIPs, implementation of the 2024 annual PM2.5 NAAQS revised standard, CAA section 111(d) EGU State plans, and CAA section 111(d)—OOOO(c) Oil and Gas State plans.

⁵ In early 2024, the EPA conducted a series of outreach webinars to inform stakeholders of EPA's intent to revise the Regional Haze Rule for the third implementation period. Comments on potential rule revisions were submitted to a non-regulatory docket (EPA-HQ-OAR-2023-0262). Many commenters requested that the EPA extend the third implementation period SIP deadline by 3-5 years following any major revision of the Regional Haze Rule given that regional haze SIP development requires many years and States do not yet know how any major regulatory revisions will impact the SIP development process. See FN 21 for more information.

While the EPA is proposing the specific extended third implementation period SIP deadline of July 31, 2031, and clarifying the deadline remains July 31, 2038 for the fourth implementation period SIPs, the EPA is also soliciting comment on alternative deadline options for the third implementation period Haze SIPs. Commenters may suggest alternate deadline options for the third implementation period regional haze SIP revisions by submitting alternatives to Docket ID No. EPA-HQ-OAR-2023-0262 at http://www.regulations.gov. If commenters provide feedback identifying a date other than July 31, 2031, the EPA asks that comments also include the specific basis and/or rationale for the identified date.

IV. What is the background for the EPA's proposed action?

A. Regional Haze

Regional haze is visibility impairment that is produced by a multitude of sources and activities that are located across a broad geographic area and emit PM10, PM2.5 (e.g., sulfates, nitrates, organic carbon, elemental carbon and soil dust) and their precursors (e.g., SO2, NOX and, in some cases, ammonia and volatile organic compounds). Fine particle precursors react in the atmosphere to form PM2.5, which impairs visibility by scattering and absorbing light. This light scattering reduces the clarity, color and visible distance that one can see. Particulate matter can also cause serious health effects in humans (including premature death, heart attacks, irregular heartbeat, aggravated asthma, decreased lung function and increased respiratory symptoms) and contribute to environmental effects such as acid deposition and eutrophication.

B. Requirements for Regional Haze SIPs for the Second Implementation Period

In 2017, the EPA revised the Regional Haze Rule (2017 RHR) to clarify States' obligations and streamline certain regional haze requirements for the second implementation period.⁶ These revisions to the regional haze program focused on the requirement that States' SIPs contain long-term strategies for making reasonable progress towards the national visibility goal. These reasonable progress requirements as revised in the 2017 rulemaking are codified at 40 CFR 51.308(f). Among other changes, the 2017 RHR adjusted the deadline for States to submit their second implementation period SIPs,⁷ clarified the order of analysis and the relationship between the reasonable progress goals and the long-term strategy and focused on making visibility improvements on the days with the most anthropogenic visibility impairment, as opposed to the days with the most visibility impairment overall. The EPA also revised requirements of the visibility protection program related to periodic progress reports and FLM consultation.

⁶ 82 FR 3078 (January 10, 2017).

⁷ The 2017 RHR extended the deadline to submit second implementation period SIPs from July 31, 2018, to July 31, 2021. Id. at 3116-3118.

Currently, 40 CFR 51.308(f) requires States to submit periodic comprehensive revisions of implementation plans (referred to in this document as periodic comprehensive SIP revisions) addressing regional haze visibility impairment by no later than July 31, 2021, July 31, 2028, and every 10 years thereafter. All 50 States, the District of Columbia, and the U.S. Virgin Islands are required to submit regional haze SIPs satisfying the applicable requirements for the second implementation period of the regional haze program. Each SIP must contain a long-term strategy for making reasonable progress toward meeting the national goal of remedying any existing and preventing any future anthropogenic visibility impairment in Class I areas.⁸ To this end, 40 CFR 51.308(f) lays out the process by which States determine what constitutes their long-term strategies, with the order of the requirements in 40 CFR 51.308(f)(1) through (3) generally mirroring the order of the steps in the reasonable progress analysis ⁹ and 40 CFR 51.308(f)(4) through (6) containing additional, related requirements. In addition to satisfying the requirements at 40 CFR 51.308(f) related to reasonable progress, the regional haze SIP revisions for the second implementation period must address the requirements in 40 CFR 51.308(g)(1) through (5) pertaining to periodic reports describing progress towards the reasonable progress goals (RPGs), 40 CFR 51.308(f)(5), as well as requirements for FLM consultation that apply to all visibility protection SIPs and SIP revisions.¹⁰

⁸ CAA 169A(b)(2)(B).

⁹ The EPA explained in the 2017 RHR Revisions that we were adopting new regulatory language in 40 CFR 51.308(f) that, unlike the structure in 51.308(d), “tracked the actual planning sequence.” (82 FR 3091, January 10, 2017).

¹⁰ 40 CFR 51.308(i).

For additional background on the EPA's regional haze program and the 2017 RHR revisions, please refer to Section III. Overview of Visibility Protection Statutory Authority, Regulation, and Implementation of “Protection of Visibility: Amendments to Requirements for State Plans” of the 2017 RHR.¹¹

¹¹ See 82 FR 3078 (January 10, 2017, located at https://www.federalregister.gov/documents/2017/01/10/2017-00268/protection-of-visibility-amendments-to-requirements-for-State-plans#h-16).

V. Proposed Rule Changes

The EPA has announced its intention to revise the Regional Haze Rule, in part to incorporate lessons learned from the implementation of the rule in the second implementation period. Given that such revisions have not yet been proposed, we are proposing to extend the SIP due date timeline to avoid a situation where the rule revisions are finalized too close in time to the existing timeline, resulting in State inability to meet that timeline. Therefore, we are proposing to extend the SIP deadline in anticipation that it will be necessary to provide States with sufficient time to take potential revisions into account when developing their SIPs. Indeed, we expect that extending the deadline to align with the forthcoming Regional Haze Rule revisions will result in a more effective program in terms of achieving the goal of improved visibility in Class I areas by aligning programmatic objectives with an opportunity for holistic air quality planning approaches across multiple criteria air pollutants. In addition, we are also proposing revisions that would clarify that the fourth implementation plans are still due on July 31, 2038, and do not significantly alter the originally intended SIP revision schedule.

Extension of the Next Regional Haze SIP Deadline From 2028 to 2031

The EPA is proposing to amend 40 CFR 51.308(f) to extend the compliance deadline for the third periodic comprehensive SIP revisions from July 31, 2028, to July 31, 2031. We are also proposing revisions to clarify that the compliance deadline for the fourth periodic comprehensive SIP revisions is still July 31, 2038. Periodic comprehensive SIP revisions for the third implementation period would be due on July 31, 2031, SIP revisions for the fourth implementation period would be due on July 31, 2038, and future periodic comprehensive SIP revisions would be due every 10 years thereafter. The EPA is not proposing to change the end date for the third implementation period, which will remain 2038 regardless of when States submit their SIP revisions. The EPA is also not proposing to amend the due date for third implementation period progress reports, which remain due in 2033.

The EPA is within its statutory authority to propose this deadline extension.¹² First, the EPA's proposal to extend the third implementation period's submission deadline by 3 years will not impact the EPA's statutory duty to ensure that reasonable progress towards natural visibility is being made at Class I areas. Section 169A(a)(4) of the CAA requires the EPA to promulgate regulations to assure (1) reasonable progress toward meeting the national goal of preventing any future and remedying any existing visibility impairment; and (2) compliance with other regional haze requirements. Then, CAA section 169A(b) generally outlines what EPA must cover in those regulations. Under CAA section 169A(b)(2)(B), regional haze SIP submissions must include, among other things, a long-term, 10-to-15-year, strategy for making reasonable progress toward meeting the national goal. Although second implementation period SIPs were initially due in 2018, when the EPA extended that deadline to 2021,¹³ the second implementation period still ended in 2028. Therefore, the third implementation period's long-term strategy could end anywhere between 2038-2043. However, as outlined in this proposal, the EPA is proposing for the SIP submission deadline to be 2031, with the third implementation period still ending in 2038. Therefore, the timing of third implementation period SIPs will still allow for a long-term strategy that meets the statutory requirements and will not elongate the third implementation period. This is especially true given that the due date for the fourth periodic comprehensive SIP revisions is still July 31, 2038.

¹² The EPA is authorized to promulgate the Regional Haze Rule under CAA sections 110, 114, 121, 160-169, and 169A.

¹³ 82 FR 3078 at 30116-3118 (January 10, 2017).

The EPA acknowledges that extending the deadline to submit third implementation SIPs by three years will also extend the timeframe for additional measures to be added to the State's long-term strategy by three years. However, between 2028 and 2031, existing regional haze implementation plans that include measures deemed necessary for reasonable progress for the first two implementation periods will continue to be in place. Additionally, if a State would ever wish to revise those measures being implemented under its current SIP, the State would have to submit a SIP revision for EPA review. In that review, the EPA is obligated to ensure, inter alia, that such a revision does not contribute to an increase in anthropogenic visibility impairment in any Class I area. Therefore, despite EPA's proposed 3-year extension, the measures deemed necessary for reasonable progress during the first two implementation periods will continue to ensure reasonable progress from 2028 to 2031 and beyond, unless the State submits a SIP revision.

Under the current rule, when determining what is necessary for reasonable progress within a given implementation period, States must consider the four statutory factors under CAA section 169(A)(g)(1).¹⁴ However, before considering the four statutory factors, States must conduct photochemical modeling and/or other technical analyses to estimate their contributions of anthropogenic visibility impairment in various Class I areas nationwide. States then select sources for analysis under the four statutory factors to determine if new controls are necessary or if existing controls suffice to make reasonable progress and justify their decisions within their SIP. As discussed later in this section, States have indicated that it may take 4 years to complete this work. Providing States sufficient time to develop meaningful and comprehensive SIPs that address visibility improvement goals ultimately helps ensure that the SIPs contain measures that are necessary for reasonable progress and will in fact make progress towards the national goal of eliminating existing and preventing future visibility impairment.

¹⁴ In determining what measures are necessary for reasonable progress, States must consider the cost of compliance, the time necessary for compliance, the energy and nonair quality environmental impacts of compliance, and the remaining useful life of any existing source subject to such requirements (CAA section 169A(g)(1)).

Furthermore, while SIP development schedules can vary State-to-State, regional haze SIPs often take longer than 2 years to develop due to modeling and technical analyses that are performed up front, prior to SIP development. As an example, the most recent Regional Haze Rule revisions were published in January 2017 and gave States approximately 4.5 years from the publication date to submit final SIP revisions.¹⁵ Even with the 4-year notice, only 8 (out of 52 required) States submitted SIPs by the July 31, 2021, compliance deadline for the second implementation period. Multiple States claimed that the 4-year window was an insufficient period of time in which to develop legally compliant SIPs.¹⁶ While the EPA believes that States were given a reasonable amount of time to develop and submit their SIPs for the second implementation period, it is clear that States need time beyond the current 2028 deadline to complete the necessary technical work (which often includes photochemical modeling, as discussed earlier in this section), make appropriate and reasonable decisions on the content of their long-term strategies, fully document the work in a SIP submittal, satisfy the FLM consultation and public comment requirements, and sometimes lengthy State legislative requirements. Based on this past experience, we estimate that States will need approximately 4 years to complete this work. Given the current rule revisions schedule, that aligns with a 2031 third implementation period SIP due date.

¹⁵ See 40 CFR 51.308(f): “Each State identified in § 51.300(b) must revise and submit its regional haze implementation plan revision to EPA by July 31, 2021, July 31, 2028, and every 10 years thereafter . . .”

¹⁶ See comments submitted to our non-regulatory docket (EPA-HQ-OAR-2023-0262), available at https://www.regulations.gov/.

Finally, extending the regional haze SIP due date will also allow States to coordinate regional haze planning with other CAA regulatory program planning, including but not limited to the 2015 8-hr Ozone NAAQS Serious Area and Severe Area SIPs,¹⁷ implementation of the 2024 annual PM2.5 NAAQS revised standard,¹⁸ CAA section 111(d) electric generating unit (EGU) State Plans,¹⁹ and CAA section 111(d)—OOOO(c) Oil and Gas State Plans.²⁰ With this proposed extension, States would be able to gather more information on the effects of these programs and develop periodic comprehensive SIP revisions that are more integrated with State planning for these other programs, an advantage that has been identified by States in comments submitted to the non-regulatory docket.21 22 The Regional Haze Rule requires States to address the impacts of other regulatory programs when developing their regional haze SIPs and States have stressed the importance of coordination between programs. A number of other regulatory programs will be taking effect in the coming years, which presents a strategic opportunity for States to coordinate their strategies to address significant sources of emissions. The EPA expects this cross-program coordination to lead to better overall policies and enhanced environmental protection.

¹⁷ See 83 FR 10376.

¹⁸ See 89 FR 16202.

¹⁹ See 88 FR 80480.

²⁰ Id.

²¹ In early 2024, the EPA solicited feedback from interested parties on revisions to the Regional Haze Rule to improve implementation of the regional haze third, and possibly later, implementation period SIPs in advance of proposing rule revisions. To facilitate this effort, the EPA conducted a series of informational public webinars intended to help the public consider different aspects of the current Regional Haze Rule relating to how key aspects of the program could be implemented in future implementation periods. Following the public webinar series, we invited interested parties to submit comments and feedback to a non-regulatory docket (EPA-HQ-OAR-2023-0262).

²² See comments submitted to our non-regulatory docket (EPA-HQ-OAR-2023-0262), available at https://www.regulations.gov/.

With this in mind, we are proposing this SIP due date extension for several reasons. First, the EPA has indicated its intent to develop a rulemaking that may substantively revise aspects of the Regional Haze Rule, which would impact the third implementation period SIPs, and possibly into future implementation periods. The public can track the EPA's progress on rulemakings through the EPA's Regulatory Agenda, which generally includes regulatory timelines.²³ Therefore, the current SIP revision deadline of July 31, 2028, will likely not provide States sufficient time to thoughtfully develop their regional haze SIP revisions to reflect any updated requirements based on the anticipated timing of the forthcoming rule revisions. At this time, it is premature to explain how the current requirements in 40 CFR 51.308(f) will change; however, the EPA acknowledges that it has announced an intention to revise the Regional Haze Rule for purposes of the third implementation period on a timeline that is likely not consistent with the current third implementation period SIP due date, as previously described.

²³ EPA's Regulatory Agenda may be accessed through the following website: https://www.epa.gov/laws-regulations/regulatory-agendas-and-regulatory-plans.

VI. Environmental Justice Considerations

When finalized, the proposed regulation will revise procedural and timing aspects of the SIP requirements for visibility protection but will not change the requirement that SIPs provide for reasonable progress towards the goal of natural visibility conditions consistent with the CAA timeline. Additionally, when finalized, the proposed revision will apply a new timeline for SIP submission that will affect all States.

The EPA acknowledges that the proposed delay in submitting SIP revisions from 2028 to 2031 might cause delays in when sources must comply with any new requirements. However, because neither the CAA nor the existing Regional Haze Rule set specific deadlines for when sources must comply with any new requirements in a State's next periodic comprehensive SIP revision, States have substantial discretion in establishing reasonable compliance deadlines for measures in their SIPs. Given this, we expect to see a range of compliance deadlines in the next round of regional haze SIPs from early in the third implementation period to 2038, depending on the types of measures adopted, whether or not these proposed rule changes are finalized. Thus, the EPA believes the delay in the periodic comprehensive SIP revision submission deadline from 2028 to 2031 will not meaningfully reduce the overall progress towards better visibility made by the end of 2038 and will not meaningfully adversely affect environmental protection for all general segments of the population.

Since the revision applies nationally, the EPA anticipates there may be areas impacted where conditions exist that have the potential to result in disproportionate and adverse effects on communities with environmental justice concerns. However, it is not practicable to provide any more detailed assessment. Nonetheless, the EPA offered meaningful engagement related to today's proposal above and beyond minimum notice and comment rulemaking obligations. For example, today's proposal was preceded by seeking comment on a wide array of issues related to the implementation of the Regional Haze Program. EPA did this through the opening of a non-regulatory docket, which occurred on March 28, 2024, and will close December 31, 2024.²⁴ So far, the EPA has received 32 comments from different perspectives. Many of the comments requested and supported the action being proposed today. Consistent with legal requirements, the EPA is now seeking comment on this specific proposal as well.

²⁴ This docket will be open for public comment from March 28, 2024, to December 31, 2024, however, comments received after June 28, 2024, will be considered late and EPA may be unable to consider comments received after this date.

VII. Statutory and Executive Order Reviews

Additional information about these statutes and Executive Orders can be found at https://www.epa.gov/laws-regulations/laws-and-executive-orders.

A. Executive Order 12866: Regulatory Planning and Review and Executive Order 14094: Modernizing Regulatory Review

This action is not a significant regulatory action as defined in Executive Order 12866, as amended by Executive Order 14094, and was therefore not subject to a requirement for Executive Order 12866 review.

B. Paperwork Reduction Act (PRA)

This action does not impose any new information collection burden under the PRA. OMB has previously approved the information collection activities contained in the existing regulations and has assigned OMB control number 2060-0704. This action simply proposes to extend the SIP due date. The burden associated with developing and submitting SIPs is covered in the existing information collection request. This action does not impose an information collection burden because it does not create an obligation for Regional offices, States, or sources to submit new information to the EPA.

C. Regulatory Flexibility Act

This action will not have a significant economic impact on a substantial number of small entities under the RFA. This action will not impose any requirements on small entities. Small entities are not subject to the requirements of this rule.

D. Unfunded Mandates Reform Act

I certify that this action does not contain an unfunded mandate as described in UMRA, 2 U.S.C. 1531-1538, and does not significantly or uniquely affect small governments. The action imposes no enforceable duty on any State, local or Tribal governments or the private sector.

E. Executive Order 13132: Federalism

This action does not have federalism implications. It will not have substantial direct effects on the States, on the relationship between the national government and the States, or on the distribution of power and responsibilities among the various levels of government.

F. Executive Order 13175: Consultation and Coordination With Indian Tribal Governments

This action does not have Tribal implications as specified in Executive Order 13175. It would not have a substantial direct effect on one or more Indian Tribes. Furthermore, these proposed regulation revisions do not affect the relationship or distribution of power and responsibilities between the Federal government and Indian Tribes. The CAA and the TAR establish the relationship of the Federal government and Tribes in characterizing air quality and developing plans to protect visibility in Class I areas. Thus, Executive Order 13175 does not apply to this action.

G. Executive Order 13045: Protection of Children From Environmental Health & Safety Risks

The EPA interprets Executive Order 13045 as applying only to those regulatory actions that concern environmental health or safety risks that the EPA has reason to believe may disproportionately affect children, per the definition of “covered regulatory action” in section 2-202 of the Executive Order. Therefore, this action is not subject to Executive Order 13045 because it does not concern an environmental health risk or safety risk. Since this action does not concern human health, the EPA's Policy on Children's Health also does not apply.

H. Executive Order 13211: Actions That Significantly Affect Energy Supply, Distribution, or Use

This action is not subject to Executive Order 13211, because it is not a significant regulatory action under Executive Order 12866.

I. National Technology Transfer and Advancement Act

This rulemaking does not involve technical standards.

J. Executive Order 12898: Federal Actions To Address Environmental Justice in Minority Populations and Low-Income Populations and Executive Order 14096: Revitalizing Our Nation's Commitment to Environmental Justice for All

The EPA believes that it is not practicable to assess whether the human health or environmental conditions that exist prior to this action result in disproportionate and adverse effects on communities with environmental justice concerns. This action revises a procedural requirement—a deadline for submission of a SIP requirement, for all States, the District of Columbia, and the U.S. Virgin Islands. Neither the CAA nor the RHR require States to conduct an evaluation of environmental justice when preparing a Haze SIP, although the EPA encourages States to consider whether there may be equity and environmental justice considerations when developing a Haze SIP. This proposed rulemaking only proposes to extend the SIP deadline for the third implementation period. It does not revise or impose new requirements regarding the development of a Haze SIP. For these reasons, the EPA believes that it is not practicable to assess whether this action is likely to result in new disproportionate and adverse effects on communities with environmental justice concerns. As was explained in this action, the EPA provided for meaningful outreach and engagement through the opening of a nonregulatory docket and receipt of feedback, including feedback being considered as part of this proposed rulemaking.

VIII. Statutory Authority

The statutory authority for this action is provided by 42 U.S.C. 7403, 7407, 7410 and 7491(A)(b).

List of Subjects in 40 CFR Part 51

Environmental protection, administrative practice and procedure, air pollution control, nitrogen dioxide, particulate matter, sulfur oxides, transportation, volatile organic compounds.

Michael S. Reagan,
Administrator.

For the reasons stated in the preamble, Title 40, Chapter I of the Code of Federal Regulations is proposed to be amended as follows:

PART 51—REQUIREMENTS FOR PREPARATION, ADOPTION, AND SUBMITTAL OF IMPLEMENTATION PLANS

1. The authority citation for part 51 continues to read as follows:

Authority: 23 U.S.C. 101; 42 U.S.C. 7401-7671q.

2. Amend § 51.308 by revising paragraph (f) introductory text, to read as follows:

§ 51.308 Regional haze program requirements.

* * * * *

(f) Requirements for periodic comprehensive revisions of implementation plans for regional haze. Each State identified in § 51.300(b) must revise and submit its regional haze implementation plan revision to EPA by July 31, 2021, July 31, 2031, July 31, 2038, and every 10 years thereafter. The plan revision due on or before July 31, 2021, must include a commitment by the State to meet the requirements of paragraph (g) of this section. In each plan revision, the State must address regional haze in each mandatory Class I Federal area located within the State and in each mandatory Class I Federal area located outside the State that may be affected by emissions from within the State. To meet the core requirements for regional haze for these areas, the State must submit an implementation plan containing the following plan elements and supporting documentation for all required analyses:

* * * * *

[FR Doc. 2024-30212 Filed 12-20-24; 8:45 am]

BILLING CODE 6560-50-P